DEPARTMENT OF COMMERCE

National Oceanic and Atmospheric Administration

50 CFR Part 665

[RTID 0648-XD180]

Pacific Island Fisheries; Standardized Bycatch Reporting Methodologies

AGENCY: National Marine Fisheries Service (NMFS), National Oceanic and Atmospheric Administration (NOAA), Commerce.

ACTION: Notice of availability of fishery ecosystem plan amendments; request for comments.

SUMMARY: NMFS announces that the Western Pacific Fishery Management Council (Council) proposes to amend the five fishery ecosystem plans (FEP) for fisheries in the Pacific Islands Region. If approved, the FEPs would be amended to update data collection mechanisms identified as standardized bycatch reporting methodologies (SBRM) as needed, and revise descriptions of SBRM for consistency with current NMFS regulations. The proposed action considers the best available scientific, commercial, and other information about the fisheries, and supports the long-term sustainability of fishery resources.

DATES: NMFS must receive comments on the proposed amendment by April 9, 2024.

ADDRESSES: You may submit comments on the proposed amendment, identified by NOAA-NMFS-2023-0151, by either of the following methods:

• Electronic Submission: Submit all electronic public comments via the Federal e-Rulemaking Portal. Go to https://www.regulations.gov and type NOAA-NMFS-2023-0151 in the Search box (note: copying and pasting the FDMS Docket Number directly from this document may not yield search results). Click on the “Comment” icon, complete the required fields, and enter or attach your comments.

• Mail: Send written comments to Sarah Malloy, Acting Regional Administrator, NMFS Pacific Islands Regional Office (PIRO), 1845 Wasp Blvd., Bldg. 176, Honolulu, HI 96818.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

The Council and NMFS prepared a draft omnibus amendment that describes changes that would be made to the FEPs. The draft amendment is available from https://www.regulations.gov or the Council, 1164 Bishop St., Suite 1400, Honolulu, HI 96813, telephone 808-522-8220, fax 808-522-8226, https://www.wpcouncil.org.

FOR FURTHER INFORMATION CONTACT: Brett Schumacher, Sustainable Fisheries Division, NMFS PIR, 808-725-5176.

SUPPLEMENTARY INFORMATION: The Council and NMFS manage Federal fisheries in the Pacific Islands Region pursuant to the Magnuson-Stevens Fishery and Conservation and Management Act (Magnuson-Stevens Act). Management of these fisheries is organized through five FEPs: the American Samoa Archipelago FEP, the Mariana Archipelago FEP, the Hawaii Archipelago FEP, the Pacific Remote Island Areas (PRIA) FEP, and the Pelagic Fisheries of the Western Pacific Region FEP. NMFS proposes to amend these FEPs.

Section 303(a)(11) of the Magnuson-Stevens Act requires that the FEPs establish a standardized bycatch reporting methodology for each fishery. On January 19, 2017, NMFS published a final rule (82 FR 6317) establishing national guidance regulations at 50 CFR 600.1600 through 600.1610 for compliance with the Magnuson-Stevens Act SBRM requirements. The SBRM final rule requires the Council in coordination with NMFS to review their management plans and make any necessary changes to be consistent with published guidance. The final rule also requires the Council to explain how the SBRMs meet the stated purpose in the rule based on the analysis of four considerations: (1) characteristics of bycatch in the fishery, (2) the feasibility of the reporting methodology, (3) the uncertainty of data resulting from the methodology, and (4) how the data will be used to assess the amount and type of bycatch in the fishery (60 CFR 600.1610(a)).

Current descriptions of SBRM for Pacific Island fisheries were approved in 1999 (64 FR 19067, April 19, 1999) and 2003 (68 FR 46112, August 5, 2003) as part of omnibus bycatch amendments and later incorporated into the five FEPs in. As such, the descriptions of bycatch characteristics and data collection methods pre-date the 2017 SBRM rule, and do not describe SBRM consistent with current regulations.

The Council completed a consistency review of all five FEPs in 2021, and took final action at their 187th meeting on September 21, 2021, to recommend an omnibus amendment for all FEPs to establish consistency with SBRM regulations, clarify language for SBRM, and explain how the SBRM in each FEP meets the purpose as defined in the 2017 SBRM rule.

The proposed amendment would update data collection mechanisms identified as SBRM as needed, and revise descriptions of SBRM in each FEP for consistency with current regulations. The proposed amendments to the FEPs are administrative in nature and would not change any fishery data collection, recording, or reporting methods or requirements, and would not implement any new regulations. Therefore, the amendments would not affect any fishery in terms of gear used; area fished; seasonality; species caught; level of catch or effort; bycatch of target stocks, non-target stocks, or protected species; or any other aspect of any fishery. Also, the amendments would not add any additional administrative or enforcement requirements. Therefore no effects of the proposed omnibus amendment are expected with respect to the natural environment in the Pacific Islands Region; social, economic, or cultural conditions related to any fishery; or to the administration and enforcement of any fishery.

NMFS must receive comments on the proposed amendment by April 9, 2024, for consideration in the decision to approve, partially approve, or disapprove the amendment.

Authority: 16 U.S.C. 1801 et seq.

Dated: February 5, 2024.
Everett Wayne Baxter,
Acting Director, Office of Sustainable Fisheries, National Marine Fisheries Service.

[FR Doc. 2024-02642 Filed 2-8-24; 8:45 am]

BILLING CODE 3510-22-P